DEPARTMENT OF VETERANS AFFAIRS

Veterans Rural Health Advisory Committee, Amended, Notice of Meeting

The Department of Veterans Affairs (VA) gives notice under the Federal Advisory Committee Act, 5 U.S.C. ch. 10, that the Veterans Rural Health Advisory Committee will hold its face-to-face meeting at the American Legion Build, 1608 K St. NW, Washington, DC 20006 on Thursday October 24, 2024. The meeting will convene at 8 a.m., eastern standard time (EST) and adjourn at 4:30 p.m. EST. The meeting sessions are open to the public. Additionally, a meeting link is available for individuals who cannot attend in person and would like to join online. The meeting can be accessed through the https://veteransaffairs.webex.com/veteransaffairs/j.php?MTID=m362183abee8a40616be272e42b86ac9b or by telephone, +1-404-397-1596, Conference ID 2820 022 4291.

The purpose of the Committee is to advise the Secretary of VA on rural health care issues affecting Veterans. The Committee examines programs and policies that impact the delivery of VA rural health care to Veterans and discusses ways to improve and enhance VA access to rural health care services for Veterans.

The agenda will include updates from Department leadership; the Executive Director, VA Office of Rural Health; and the Committee Chair; as well as presentations by subject-matter experts on general rural health care access.

Time will be allocated for receiving public comments on October 24, 2024, at 5 p.m. EDT. Interested parties should contact Mr. Paul Boucher, by email at paul.boucher@va.gov, at (207) 458-7129, or send by mail to 810 Vermont Avenue NW (12RH), ATTN: VRHAC Committee, Washington, DC 20420 no later than close of business on October 14, 2024. Individuals wishing to speak are invited to submit a 1-2-page summary of their comment for inclusion in the official meeting record no later than close of business on October 14, 2024. Any member of the public seeking additional information should contact Mr. Boucher at the email address noted above or 207-458-7129.

Dated: October 3, 2024.
LaTonya L. Small,
Federal Advisory Committee Management Officer.

[FR Doc. 2024-23252 Filed 10-7-24; 8:45 am]

BILLING CODE 8320-01-P